DEPARTMENT OF ENERGY

Agency Information Collection Extension

AGENCY: Office of Energy Efficiency and Renewable Energy, U.S. Department of Energy (DOE).

ACTION: Submission for Office of Management and Budget (OMB) review; comment request.

SUMMARY: The Department of Energy has submitted an information collection request to the OMB for extension under the provisions of the Paperwork Reduction Act of 1995. The information collection requests a three-year extension of its Clean Cities Vehicle Programs Information Collection, OMB Control Number 1910-5171.

DATES: Comments regarding this proposed information collection must be received on or before August 16, 2023. If you anticipate difficulty in submitting comments within that period, contact the person(s) listed below as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mr. Mark Smith, at telephone: (202) email: Mark.Smith@ee.doe.gov. Please put “2023 DOE Agency Information Collection Renewal-Clean Cities Vehicle Programs” in the subject line when sending an email.

SUPPLEMENTARY INFORMATION: DOE is proposing to extend an information collection pursuant to the Paperwork Reduction Act of 1995. The approved collection is presently being used for three Clean Cities programmatic efforts. The first initiative is the collection of information for a voluntary plug-in electric vehicle (PEV) questionnaire that assists communities and DOE Clean Cities coalitions in assessing the level of readiness of their communities for PEVs. The second effort is intended to develop information that enables DOE to review the progress of DOE's National Clean Fleets Partnership (Partnership). The third effort is referred to as “Ride and Drive Surveys”. DOE is not proposing to expand the scope of these information collection efforts. Previously DOE proposed to include a new information collection instrument to address active and effective Clean Cities Coalition self-assessments to ensure its coalitions can remain in good standing for designation purposes, however, DOE has determined that a specific information collection will not be needed for this work. For this reason, DOE is no longer proposing this specific effort. The net result is that DOE is not proposing to expand the scope of the existing ICR.

Comments are invited on: (a) whether the extended collection of information is necessary for the proper performance of the functions of DOE, including whether the information shall have practical utility; (b) the accuracy of DOE's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5171; (2) Information Collection Request Title: Clean Cities Vehicle Programs; (3) Type of Review: Extension; (4) Purpose: DOE's Clean Cities initiative has developed three voluntary mechanisms by which communities, certain fleets, and the purchasing public can get a better understanding of their readiness for plug-in electric vehicles (PEVs), and to help DOE's Clean Cities coalitions prepare for the adoption of these vehicles review their progress in doing so. The voluntary PEV Scorecard is intended to assist communities and the coalitions in assessing the level of readiness of their communities for PEVs. The principal objectives of the questionnaire are to provide respondents with an objective assessment and estimate of their respective community's readiness for PEVs as well as understand the respective community's goals related to integrating these vehicles, and allow communities to assess the magnitude of gaps in their readiness to achieve their goals. DOE intends the questionnaire to be completed by a city/county/regional sustainability or energy coordinator. As the intended respondent may not be aware of every aspect of local or regional PEV readiness, coordination among local stakeholders to gather appropriate information may be necessary.

DOE expects a total respondent population of approximately 1,250 respondents. Selecting the multiple-choice answers in completing a questionnaire is expected to take under 30 minutes, although additional time of no more than 20 hours may be needed to assemble information necessary to be able to answer the questions, leading to a total burden of approximately 25,625 hours. Assembling information to update questionnaire answers in the future on a voluntary basis would be expected to take less time, on the order of 10 hours, as much of any necessary time and effort needed to research information would have been completed previously.

For the Clean Fleets Partnership information collection, the Partnership is targeted at large, private-sector fleets that own or have contractual control over at least 50 percent of their vehicles and have vehicles operating in multiple States. DOE expects approximately 50 fleets to participate in the Partnership and, as a result, DOE expects a total respondent population of approximately 50 respondents. Providing initial baseline information for each participating fleet, which occurs only once, is expected to take 60 minutes. Follow-up questions and clarifications for the purpose of ensuring accurate analyses are expected to take up to 90 minutes. The total burden is expected to be 125 hours.

For the DOE Clean Cities initiative that involves the ride-and-drive surveys, DOE has developed a three-part voluntary survey to assist its coalitions and stakeholders in assessing the level of interest, understanding, and acceptance of PEVs and alternative fuel vehicles (AFV) by the purchasing public. DOE intends the surveys to be completed by individuals who are participating in one of many ride-and-drive events. There are three phases to the Survey: (1) pre Ride-and-Drive; (2) post Ride-and-Drive; and (3) a few months/some time later to discern if the respondent followed through with acquisition of a PEV or another AFV. Respondents provide answers in the first two phases through a user-friendly paper survey and on-line survey, and in the third phase they answer questions via an electronic interface, although a paper survey may be used for those lacking access to an electronic device or computer.

The Surveys' effort relies on responses to questions the respondent chooses to answer. The multiple-choice questions address the following topic areas: (1) Demographics; (2) Current vehicle background; (3) How they learned about ride and drive event; (4) Perceptions of PEVs before and after driving; (5) Post-drive vehicle experience; (6) Purchase expectations; (7) Follow-up survey regarding subsequent behaviors; (8) Purchase information; (9) Barriers; and (10) Future intentions. The survey is expected to take 30 minutes, leading to a total burden of approximately 2,500 hours for the Ride and Drive surveys.

(5) Type of Respondents: Public;

(6) Annual Estimated Number of Respondents: 6,300;

(7) Annual Estimated Number of Total Responses: 16,300;

(8) Annual Estimated Number of Burden Hours: 28,250 (25,625 for PEV Scorecard, 125 for Clean Fleets Partnership, and 2,500 for the Ride and Drive Surveys); and

(9) Annual Estimated Reporting and Recordkeeping Cost Burden: $2,278,480.

Statutory Authority: 42 U.S.C. 13233; 42 U.S.C. 13252 (a)-(b); 42 U.S.C. 13255.

Signing Authority

This document of the Department of Energy was signed on July 10, 2023, by Michael Berube, Acting Program Director, Vehicle Technologies, Office Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 12, 2023.
Treena V. Garrett,
Federal Register Liaison Officer, U.S. Department of Energy.

[FR Doc. 2023-15054 Filed 7-14-23; 8:45 am]

BILLING CODE 6450-01-P